NATIONAL SCIENCE FOUNDATION

Notice of Permit Applications Received Under the Antarctic Conservation Act of 1978

AGENCY: National Science Foundation.

ACTION: Notice of Permit Applications Received under the Antarctic Conservation Act of 1978, Public Law 95-541.

SUMMARY: The National Science Foundation (NSF) is required to publish a notice of permit applications received to conduct activities regulated under the Antarctic Conservation Act of 1978. NSF has published regulations under the Antarctic Conservation Act at Title 45 Part 670 of the Code of Federal Regulations. This is the required notice of permit applications received.

DATES: Interested parties are invited to submit written data, comments, or views with respect to this permit application by May 23, 2016. This application may be inspected by interested parties at the Permit Office, address below.

ADDRESSES: Comments should be addressed to Permit Office, Room 755, Division of Polar Programs, National Science Foundation, 4201 Wilson Boulevard, Arlington, Virginia 22230.

FOR FURTHER INFORMATION CONTACT: Nature McGinn, ACA Permit Officer, at the above address or ACApermits@nsf.gov.

SUPPLEMENTARY INFORMATION: The National Science Foundation, as directed by the Antarctic Conservation Act of 1978 (Pub. L. 95-541), as amended by the Antarctic Science, Tourism and Conservation Act of 1996, has developed regulations for the establishment of a permit system for various activities in Antarctica and designation of certain animals and certain geographic areas a requiring special protection. The regulations establish such a permit system to designate Antarctic Specially Protected Areas.

Application Details

Permit Application: 2017-001

1. Applicant: Kristin M. O'Brien, Institute of Arctic Biology, P.O. Box 757000, Fairbanks, AK 99775-7000.

Activity for Which Permit Is Requested

ASPA Entry. This applicant will fish using benthic trawls and fish traps/pots in the Antarctic Peninsula area for capturing specimens to support studies of the physiology and biochemistry of Antarctic fishes with an emphasis on Channichthyid fishes. Collection of specimens will be carried out aboard the ARSV Laurence M. Gould and live specimens will be transported to aquarium facilities at Palmer Station for research purposes. Benthic Otter trawling will be restricted to areas with smooth bottom surfaces. The applicant plans to collect a total of 200-300 fish specimens from about 15 species. Tissue samples will be transported to the home institution.

Location

APSA 152, Western Bransfield Strait; ASPA 153 Eastern Dallmann Bay.

Dates

March 1-August 30, 2017.

Nadene G. Kennedy,
Polar Coordination Specialist, Division of Polar Programs.

[FR Doc. 2016-09250 Filed 4-20-16; 8:45 am]

BILLING CODE 7555-01-P